NUCLEAR REGULATORY COMMISSION

[Docket No. 040-08502; NRC-2009-0036]

Supplemental Environmental Assessment and Finding of No Significant Impact for License Renewal for Uranium One USA, Inc., Willow Creek Uranium In-Situ Recovery Project, Johnson and Campbell Counties, WY, License SUA-1341

AGENCY: Nuclear Regulatory Commission.

ACTION: Notice of availability.

ADDRESSES: Please refer to Docket ID NRC-2009-0036 when contacting the NRC about the availability of information regarding this document. You may access information related to this document, which the NRC possesses and are publicly-available, using any of the following methods:

• Federal Rulemaking Web site: Go to http://www.regulations.gov and search for Docket ID NRC-2009-0036. Address questions about NRC dockets to Carol Gallagher; telephone: 301-492-3668; email: Carol.Gallagher@nrc.gov.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. In addition, for the convenience of the reader, the ADAMS accession numbers are provided in a table in Section IV of this notice.

• NRC's PDR: You may examine and purchase copies of public documents at the NRC's PDR, Room O1-F21, One White Flint North, 11555 Rockville Pike, Rockville, Maryland 20852.

FOR FURTHER INFORMATION CONTACT: Ron C. Linton, Project Manager, Office of Federal and State Materials and Environmental Management Programs, U.S. Nuclear Regulatory Commission, Washington, DC 20555-0001; telephone: 301-415-7777; email: Ron.Linton@nrc.gov.

SUPPLEMENTARY INFORMATION:

I. Introduction

The U.S. Nuclear Regulatory Commission (NRC) is considering the renewal of Source Materials License SUA-1341 for continued uranium production operations and in-situ recovery (ISR) of uranium at the Willow Creek Project (formally known as Irigaray and Christensen Ranch Project) in Johnson and Campbell Counties, Wyoming. The NRC has prepared a Supplemental Environmental Assessment (SEA) to the Environmental Assessment (EA) published in July 2011, in support of this proposed license renewal in accordance with the requirements in part 51 of Title 10 of the Code of Federal Regulations (10 CFR). Based on the SEA, the NRC has concluded that a Finding of No Significant Impact (FONSI) is appropriate. The NRC is also conducting a safety evaluation of the proposed license renewal, pursuant to 10 CFR part 40. The results of the safety evaluation will be documented in a separate Safety Evaluation Report. If approved, the NRC will issue the renewed license following the publication of this notice.

II. Supplemental Environmental Assessment Summary

On May 30, 2008, Cogema Mining, Inc. submitted an application to the NRC, requesting license renewal of Source Materials License SUA-1341. On December 17, 2009, the NRC consented to a change of control of the license and Uranium One, USA, Inc. (Uranium One) became the licensee for Source Materials License SUA-1341. The NRC completed a Final EA and FONSI for the license renewal request on July 7, 2011. This SEA was prepared after publication of the EA due to the licensee's request to increase the flow rate of operations from 4,000 gallons per minute (gpm) to 9,000 gpm. The proposed action in this SEA is to increase the Christensen Ranch satellite plant throughput from 4,000 gpm to 9,000 gpm.

The NRC staff has determined that this increase in flow rate will not change the licensed boundary, and will only require minor modifications to the satellite plant resulting in an increase in the satellite plant footprint of approximately 660 square feet. The increase in flow rate will allow the licensee to operate more wellfields simultaneously, but will not change production rates from already approved wellfields because the production unit geologic properties control the flow rate at which each wellfield can be operated, which has not changed from previous evaluations. In the SEA, the staff considered the following environmental resource areas in its evaluation: Air quality, public and occupational doses; soil and groundwater; waste management and transportation. Public and occupational exposures are expected to remain below the limits established in 10 CFR part 20. Soil and groundwater are not expected to be impacted beyond what has already been evaluated, as the proposed action will allow the licensee to produce at a faster rate, but not from more production areas. Uranium One maintains acceptable waste management practices and procedures and even with the increase in flow rate, the waste management impacts are expected to be small. The increase in flow rate will result in one additional transfer of resin daily and one additional truck transporting resin daily to the Irigaray central processing plant. This increase does not affect the previous analysis discussed in the EA. The staff concluded that the proposed 10-year renewal of Source Materials License SUA-1341 will not result in a significant impact to the environment.

During development of the SEA, NRC staff requested comments from the Wyoming Department of Environmental Quality (WDEQ) on the increase in flow rate; none were provided.

III. Finding of No Significant Impact

The NRC staff has prepared an SEA in support of the proposed action. On the basis of this SEA, the NRC finds that there are no significant environmental impacts from the proposed action, and that the preparation of an environmental impact statement is not warranted. Accordingly, the NRC has determined that a Finding of No Significant Impact is appropriate.

IV. Further Information

Documents related to this action, including the application for amendment and supporting documentation, are available electronically at the NRC Library at http://www.nrc.gov/reading-rm/adams.html. From this site, you can access the NRC's Agencywide Document Access and Management System (ADAMS), which provides text and image files of NRC's public documents. The ADAMS accession numbers for the documents related to this notice are provided in the following table:

Document | ADAMS Accession No.
Final Environmental Assessment, July 7, 2011 | ML103270681
License Renewal Revision (LRA), Revision and Request for Flow Rate Increase, March 7, 2012 | ML120820095
Acceptance For Review And Request For Additional Information, Supplemental Information to 2008 License Renewal Application, June 7, 2012 | ML12152A159
Response to RAIs for Supplemental Information to 2008 License Renewal Application, July 7, 2012 | ML12206A436
LRA Revision, July 10, 2012 | ML12206A436
Letter to WDEQ, Request for Comments | ML12230A086
Email response from WDEQ | ML12285A074
Supplemental Environmental Assessment | ML12289A522

If you do not have access to ADAMS or if there are problems in accessing the documents located in ADAMS, contact the NRC Public Document Room (PDR) Reference staff at 1-800-397-4209, 301-415-4737 or by email to pdr.resource@nrc.gov.

These documents may also be viewed electronically on the public computers located at the NRC's Public Document Room (PDR), O 1 F21, One White Flint North, 11555 Rockville Pike, Rockville, MD 20852. The PDR reproduction contractor will copy documents for a fee.

Dated at Rockville, Maryland, 16th day of January 2013.
For the Nuclear Regulatory Commission.
Andrew Persinko,
Deputy Director, Decommissioning and Uranium Recovery Licensing Directorate, Division of Waste Management and Environmental Protection, Office of Federal and State Materials and Environmental Management Programs.

[FR Doc. 2013-01581 Filed 1-24-13; 8:45 am]

BILLING CODE 7590-01-P